FEDERAL HOUSING FINANCE BOARD

Sunshine Act Meeting Notice; Announcing a Closed Meeting of the Board of Directors

Time and Date: The meeting of the Board of Directors is scheduled to begin at 10 a.m. on Wednesday, August 11, 2004.

Place: Board Room, Second Floor, Federal Housing Finance Board, 1777 F Street, NW., Washington, DC 20006.

Status: The entire meeting will be closed to the public.

Matter to be Considered at the Meeting:

Periodic Update of Examination Program Development and Supervisory Findings.

Contact Person for More Information: Mary H. Gottlieb, Paralegal Specialist, Office of General Counsel, by telephone at 202/408-2826 or by electronic mail at gottliebm@fhfb.gov.

Dated: August 4, 2004.
By the Federal Housing Finance Board.
Mark J. Tenhundfeld,
General Counsel.

[FR Doc. 04-18190 Filed 8-4-04; 5:05 pm]

BILLING CODE 6725-01-P